DEPARTMENT OF COMMERCE

Technology Administration

Request for Nominations of Members to Serve on the National Medal of Technology Nomination Evaluation Committee

AGENCY: Technology Administration, Commerce.

ACTION: Notice of request for nominations.

SUMMARY: The Department of Commerce (Technology Administration) is requesting nominations of individuals to serve on the National Medal of Technology Nomination Evaluation Committee. Technology Administration will consider nominations received in response to this notice as well as from other sources. The SUPPLEMENTARY INFORMATION section of this notice provides Committee and membership criteria.

DATES: Please submit nominations within 30 days of the publication of this notice.

ADDRESSES: Submit nominations to Mildred Porter, Director, National Medal of Technology Program, Technology Administration, U.S. Department of Commerce, 1401 Constitution Avenue, NW., Room 4817, Washington, DC 20230. Nominations also may be submitted via fax at 202-482-6275, or e-mail to: nmt@technology.gov.

FOR FURTHER INFORMATION CONTACT: Mildred Porter, Director, National Medal of Technology Program, Technology Administration, U.S. Department of Commerce, 1401 Constitution Avenue, NW., Room 4817, Washington, DC 20230, telephone (202) 482-5572.

SUPPLEMENTARY INFORMATION: The Committee was established in accordance with the Federal Advisory Committee Act (FACA) (Title 5, United States Code, Appendix 2). The following provides information about the Committee and membership.

1. Committee members are appointed by and serve at the discretion of the Secretary of Commerce. The Committee provides advice to the Secretary on the implementation of Public Law 96-480 (15 U.S.C. 3711). Public Law 105-309; 15 U.S.C. 3711, Section 10, approved by the 105th Congress in 1998, added the National Technology Medal for Environmental Technology.

2. The Committee functions solely as an advisory body under the FACA. Members are appointed to the 12-member Committee for a period of three-years. Each will be reevaluated at the conclusion of the three-year term with the prospect of renewal, pending Advisory Committee needs and the Secretary's concurrence. Selection of membership is made in accordance with applicable Department of Commerce guidelines.

3. Members are responsible for reviewing nominations and making recommendations for the Nation's highest honor for technological innovation, awarded annually by the President of the United States. Members of the Committee have an understanding of, and experience in, developing and utilizing technological innovation and/or they are familiar with the education, training, employment and management of technological human resources.

4. Under the FACA, membership in a committee must be balanced. To achieve balance, the Department is seeking additional nominations of candidates from small, medium-sized, and large businesses or with special expertise in the following sub sectors of the technology enterprise:

• Medical Innovations/Bioengineering and Biomedical Technology

• Technology Management/Computing/IT/Manufacturing Innovation

• Technology Manpower/Workforce Training/Education

Committee members are present or former Chief Executive Officers, former winners of the National Medal of Technology; presidents or distinguished faculty of universities; or senior executives of non-profit organizations. As such, they not only offer the stature of their positions but also possess intimate knowledge of the forces determining future directions for their organizations and industries. The Committee as a whole is balanced in representing geographical, professional, and diversity interests.

Nomination Information:

1. Nominees must be U.S. citizens, must be able to fully participate in meetings pertaining to the review and selection of finalists for the National Medal of Technology, and must uphold the confidential nature of an independent peer review and competitive selection process.

2. The Department of Commerce is committed to equal opportunity in the workplace and seeks a broad-based and diverse Committee membership.

Michelle O'Neill,
Acting Under Secretary for Technology, Technology Administration.

[FR Doc. E5-7185 Filed 12-9-05; 8:45 am]

BILLING CODE 3510-18-P